Executive Order 14375 of January 16, 2026

Designating the Board of Peace as a Public International Organization Entitled To Enjoy Certain Privileges, Exemptions, and Immunities

By the authority vested in me as President by the Constitution and the laws of the United States of America, including section 1 of the International Organizations Immunities Act (22 U.S.C. 288), and having found that the Board of Peace is a public international organization in which the United States participates within the meaning of the International Organizations Immunities Act, it is hereby ordered:

Section 1. Designation. I hereby designate the Board of Peace as a public international organization entitled to enjoy the privileges, exemptions, and immunities provided by the International Organizations Immunities Act. This designation is not intended to abridge in any respect privileges, exemptions, or immunities that the Board of Peace may have otherwise acquired or may acquire by law.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) This order is not intended to, and does not, impair any right or benefit, substantive or procedural, enforceable at law or in equity that arises as a consequence of the designation in section 1 of this order.

(e) The costs for publication of this order shall be borne by the Department of State.

THE WHITE HOUSE,

January 16, 2026.

[FR Doc. 2026-01271

Filed 1-21-26; 11:15 am]

Billing code 4710-05-P